DEPARTMENT OF AGRICULTURE

Forest Service

Tongass National Forest; Alaska; Mendenhall Glacier Visitor Facility Improvement Project

AGENCY: Forest Service, USDA.

ACTION: Notice of intent to prepare an Environmental Impact Statement.

SUMMARY: The U.S. Department of Agriculture, Forest Service will prepare an Environmental Impact Statement (EIS) to analyze a variety of actions to improve visitor experience, increase capacity to meet current and projected demand, and to protect the existing ecosystem of the Mendenhall Glacier Recreation Area (MGRA). The purpose of the project is to provide a range of sustainable recreation experiences that meet Forest Plan goals and objectives for Recreation and Tourism, including opportunities consistent with public demand with an emphasis on locally popular recreation places and those important to the tourism industry. The need to improve the MGRA was identified during the Mendenhall Glacier Master Plan process.

DATES: Comments concerning the scope of the analysis must be received by January 15, 2021. The draft EIS is expected July 2021 and the final EIS is expected January 2022.

ADDRESSES: Electronic comments may be submitted at https://cara.ecosystem-management.org/Public/CommentInput?project=53780 (preferred) or sent via email to comments-alaska-tongass-juneau@usda.gov. Written comments can be sent to Juneau Ranger District, MGRA Project, 8510 Mendenhall Loop Rd., Juneau, Alaska 99801.

FOR FURTHER INFORMATION CONTACT: Cathy Tighe, MGRA Project Manager, Tongass National Forest, 648 Mission Street, Ketchikan, Alaska 99901 or by telephone at 907-228-6274.

Individuals who use telecommunication devices for the deaf (TDD) may call the Federal Information Relay Service (FIRS) at 1-800-877-8339 between 8 a.m. and 8 p.m., Eastern Time, Monday through Friday.

SUPPLEMENTARY INFORMATION:

Project Background

The MGRA encompasses about 5,800 acres adjacent to the Mendenhall Glacier on the Juneau Ranger District of the Tongass National Forest near Juneau, Alaska. The project area is located approximately three miles north of the Juneau International Airport. One of every three Alaska visitors comes to the Mendenhall Glacier Visitor Center, making it one of the most popular attractions in the state. The MGRA is also popular with residents.

Management of the Tongass National Forest is guided by the Tongass National Forest Land and Resource Management Plan (Forest Plan), which classifies the MGRA as a Special Interest Area Land Use Designation. The MGRA is further guided by the MGRA Management Plan. Current Management Plan principles include sustaining the natural setting and habitat as much as possible while providing access to recreational opportunities for all visitors. The Management Plan recognizes heavy local use and the MGRA as a major attraction for tourists, and includes an objective to work with the tourism industry to develop opportunities. Portions of the Management Plan will need updates if an action alternative is selected for this project. Those updates, possibly a series of updates, would occur separately after a decision is made on this project since some updates would only be needed if the project is implemented.

This project was initiated as an Environmental Assessment and a prior 30-day scoping comment period began on February 18, 2020. This Notice of Intent signifies a determination to begin the process for an EIS. All previous comments received remain valid, continue to be considered, contributed to the current proposed action, and do not need to be resubmitted.

Purpose and Need for Action

The purpose of the project is to meet Forest Plan goals and objectives to provide a range of sustainable recreation opportunities consistent with public demand, emphasizing locally popular recreation places and those important to the tourism industry, while protecting outstanding scenery, fish and wildlife habitat, and to support local and regional economies (Forest Plan, pages 2-3 to 2-6).

Visitor demand at the MGRA exceeds capacity, resulting in a diminished visitor experience and the potential for environmental impacts. Current demand for commercial use is not being met, and the existing visitor capacity does not allow room for growth within the tourism sector of the local and regional economy. There is a need to review capacity allocations throughout the MGRA, particularly as they relate to potential infrastructure and visitor experience changes.

In addition, the Mendenhall Glacier has been receding at an increased rate over the last twenty years, creating a changed environment. As the glacier continues to recede, the main attraction for visitors to the MGRA could be out of view from the Visitor Center within 20 to 40 years, creating a need for additional types of visitor experiences and education opportunities.

The Mendenhall Glacier Master Plan, completed in 2019, identified a long-term vision for the MGRA, and there is a need to begin implementation of that plan.

Proposed Action

More complete descriptions of the proposed action can be found on the project web page at https://www.fs.usda.gov/project/?project=53780. Primary Proposed Action components are:

Transportation—Parking and Access, expanded:

• The two existing parking areas nearest the Visitor Center would be combined to provide more parking and separation between commercial and private vehicles.

• The existing gravel lot about 0.25 mile south of the main parking area would be expanded and paved to provide commercial and overflow parking and staging.

Facility—Welcome Center Complex, new:

• The existing pavilion, parking area shelters, and kiosks would be replaced with a single story, 18,000 square-foot Welcome Center facility near the main parking area.

• Other enhancements include: Interpretive shelters; an amphitheater; and improvements to, connections between, and extensions of existing trails.

Facility—Mendenhall Glacier Visitor Center, expansion:

• The upper floor of the Visitor Center would be expanded to include a defined theater queuing space and more restrooms, and interior spaces would be remodeled.

• Deferred maintenance repairs would be made to the railing and trail leading up to the Visitor Center and a covered area outside the main upper doors would be added.

Trails—Glacier Spur Road Trailheads, new:

• Three paved trailhead parking lots are proposed where existing trails (Powerline, Crystal Lake, and Dredge Lakes) intersect or come close to Glacier Spur Road.

Trails—Lakeshore Trail, new:

• A new trail along the south shore of Mendenhall Lake would connect the Welcome Center Plaza to Mendenhall Campground, and continue through the campground to Skaters Cabin Road. A new pedestrian bridge would cross the Mendenhall River.

• Existing walk-in campsites would be replaced, relocated, or converted to day-use picnic sites in order to construct a new day-use parking area in the campground.

• Extensions and realignments to existing trails would connect currently disconnected trail segments to create a complete recreational loop around the Dredge Lakes area.

Trails—Nugget Falls Trail, expansion:

• Nugget Falls Trail and the informal trail along the lake would connect to form a loop.

Habitat Restoration—Steep Creek:

• About 1,500 feet of Steep Creek would be realigned and restored. Backside Pond on the west side of the creek would be enlarged and connected to the Steep Creek.

• The two existing culverts under Glacier Spur Road would be replaced with a bridge.

• The culvert under Glacier Spur Road leading to Pond of Time would also be replaced.

Trails—Steep Creek Trail, extension:

• The Steep Creek Trail would be realigned and extended from the shore of Mendenhall Lake to the Trail of Time.

• The existing Dike Trail between the Trail of Time and Glacier Spur Road would be decommissioned.

Visitor Experience—Steep Creek Fish Viewing Window, new:

• A fish viewing facility would be accessed from the Steep Creek Trail.

Visitor Experience—Public Use Cabins, new:

• Five new public use rental cabins would be built in the Mendenhall Campground.

Facility—Boat Docks and Related Support Facilities, new:

• Three boat docks would be installed on Mendenhall Lake: One would be accessed from the new Lakeshore trail on the south shore near the Visitor Center; a second would be on the north shore near the glacier visitor area (below); and a permanent boat launch ramp and associated loading dock would be on the west shore near either Skaters Cabin or the West Glacier trailhead parking.

• A fenced, upland winter storage area would be constructed adjacent to the existing West Glacier parking.

• Commercial (guided) boats on the lake would be allowed under special use authorization with the following stipulations: A maximum capacity of 49 passengers each; use of alternative fuel or low-emissions motors; and a top operating speed to create no or minimal wake.

Facility—Remote Glacier visitor area, new:

• Four seasonal, relocatable structures and restroom facilities would be installed near the glacier. An accessible trail connecting the dock to the glacier facilities would be constructed and would be extended as the glacier retreats.

Trails—West Glacier Spur Trail, new/expansion:

• The existing user-created trail from West Glacier Trail to the glacier visitor area would be upgraded and realigned. A new trail spur trail would link to the existing West Glacier Trail at a higher elevation to create a loop.

• Additional parking stalls would be added in the West Glacier Trailhead parking.

Visitor Capacity, increase:

• Visitor capacity will be increased, with the allocation between commercial and non-commercial users set for the entire MGRA and/or by individual management zones.

• Management zone boundaries will be adjusted to group together similar activities and facilities proposed in this project.

Possible Alternatives

A no action alternative, which represents no change and serves as the baseline for the comparison of action alternatives, will be analyzed. Other alternatives will be developed based on significant issues identified in public comments.

Responsible Official

The Responsible Official for the decision on this project is the Forest Supervisor, Tongass National Forest, Federal Building, 648 Mission Street, Ketchikan, Alaska 99901.

Preliminary Issues

Two preliminary issues have been identified based on previous scoping efforts: (1) Proposed developments and increased visitation could cause visual impacts; disturb area fish and wildlife, particularly bears, nesting birds, migratory birds, and fish; and create increased human-bear interactions; and (2) Increased visitation, particularly in areas that have lower use currently, would negatively impact user experience through increased encounters and larger group sizes.

Scoping Comments and the Objection Process

This notice of intent initiates the scoping process, which guides the development of the EIS through internal and external input on the issues, impacts, and alternatives to consider. Notifcation will also be sent to the project mailing list and posted on the project website at https://www.fs.usda.gov/project/?project=53780. An open house was held February 20, 2020 in Juneau, Alaska during a previous 30-day scoping period when this project was initiated as an Environmental Assessment. No scoping meeting is planned during this comment period.

Written comments submitted during the comment period that began February 18, 2020 do not need to be resubmitted, continue to be considered, and are in the project record. Forest Service regulations at 36 CFR 218 subparts A and B, regarding the project-level predecisional administrative review process, apply to projects and activities implementing land management plans that are not authorized under the Healthy Forest Restoration Act. Only individuals or entities who submit timely and specific written comments concerning the project during this or another designated public comment period established by the Responsible Offical will be eligible to file an objection. It is important for reviewers to provide comments at such times and in such a manner to be useful to the agency's preparation of the EIS. Therefore, comments should be provided prior to the close of the comment period and should clearly articulate the reviewer's concerns and contentions. Comments received in response to this solicitation, including names and addresses of those who comment, will be part of the public record for this proposed action. Comments submitted anonymously will be accepted and considered; however, anonymous commenters will not gain standing to object as defined in 36 CFR 218.2.

Nature of Decision To Be Made

The Responsible Official will review the no action, the proposed action, other alternatives, and the environmental consequences to make decisions that include: (1) Whether to select the proposed action or another alternative; (2) whether to increase visitor capacity, including the level of commercial use, of the entire MGRA and/or specific management zones; and (3) mitigation measures and monitoring requirements, which may include an adaptive management strategy.

Christine Dawe,
Acting Associate Deputy Chief, National Forest System.

[FR Doc. 2020-27634 Filed 12-15-20; 8:45 am]

BILLING CODE 3411-15-P